DEPARTMENT OF THE INTERIOR

Bureau of Land Management

[LLNML00000 L71220000 EU0000 LVTFG09G6150; NMNM124955]

Notice of Realty Action: Direct Sale of Public Land in Doña Ana County, NM

AGENCY: Bureau of Land Management, Interior.

ACTION: Notice of realty action.

SUMMARY: The Bureau of Land Management (BLM), Las Cruces District Office, proposes to sell two parcels of public land totaling 2.47 acres in Doña Ana County, New Mexico. The public land would be sold to the Union Pacific Railroad for $11,000 which is more than the appraised fair market value.

DATES: Written comments regarding the proposed sale must be received by the BLM on or before October 15, 2013.

ADDRESSES: Written comments concerning the proposed sale should be sent to the District Manager, BLM Las Cruces District Office, 1800 Marquess Street, Las Cruces, NM 88005.

FOR FURTHER INFORMATION CONTACT: Anthony Hom, Realty Specialist, at the address above, by telephone 575-525-4331, or by email at Anthony_Hom@blm.gov. Persons who use a telecommunications device for the deaf (TDD) may call the Federal Information Relay Service (FIRS) at 1-800-877-8339 to contact the above individual during business hours. The FIRS is available 24 hours a day, 7 days a week, to leave a message or question with the above individual. You will receive a reply during normal business hours.

SUPPLEMENTARY INFORMATION: The public land described below is proposed for direct sale to Union Pacific Railroad, the adjoining landowner, in accordance with Sections 203 and 209 of the Federal Land Policy and Management Act of 1976 (FLPMA), as amended (43 U.S.C. 1713 and 1719) and is described as follows:

New Mexico Principal Meridian, New Mexico

T. 28 S., R. 2 E.,

Sec. 11, lot 2;

Sec. 14, lot 7.

The area described contains 2.47 acres, in Doña Ana County, New Mexico.

The public land has been identified as suitable for disposal by exchange or sale in the BLM Doña Ana County Resource Management Plan, as amended by Environmental Assessment (NM-030-2008-025) Decision Record approved on January 12, 2009. The land is not needed for any other Federal purpose and its disposal would be in the public interest. The purpose of the sale is to dispose of public land which is difficult and uneconomic to manage as part of the public land because the parcels are small and isolated. The BLM is proposing a direct sale to Union Pacific Railroad, the owner of the adjoining land on both parcels of public land proposed for sale. Lots 2 and 7 are encumbered by a 200-foot wide railroad easement, currently held by Union Pacific Railroad, authorized in 1881 under the authority of the General Railroad Act of 1875. Lot 2 is also entirely encumbered with a road maintained by Doña Ana County and a road right-of-way NMNM 122009 granted to Doña Ana County. The BLM has completed a mineral potential report which concluded there were no known mineral values on the land proposed for sale. The BLM proposes the conveyance of the Federal mineral interests would occur simultaneously with the sale of the land. In addition to this Notice, notice of this sale will also be published once a week for 3 weeks in the Las Cruces Sun-News.

On August 30, 2013, the above described land will be segregated from all forms of appropriation under the public land laws, including the mining laws, except for the sale provisions of FLPMA. Until completion of the sale, the BLM will no longer accept land use applications affecting the identified public land, except applications for the amendment of previously filed right-of-way applications or existing authorizations to increase the term of the grants in accordance with 43 CFR 2802.15 and 2886.15. This temporary segregation will terminate upon issuance of a patent, publication in the Federal Register of a termination of the segregation, or on August 31, 2015, unless extended by the BLM State Director in accordance with 43 CFR 2711.1-2(d) prior to the termination date. The land would not be sold until at least October 29, 2013. The Union Pacific Railroad would be required to pay a $50 nonrefundable filing fee for processing the conveyance of the mineral interests. Any conveyance document issued would contain the following terms, conditions, and reservations:

1. A reservation of a right-of-way to the United States for ditches and canals constructed by authority of the United States under the Act of August 30, 1890 (43 U.S.C 945);

2. A condition that the conveyance be subject to all valid existing rights of record;

3. An appropriate indemnification clause protecting the United States from claims arising out of the patentee's use, occupancy, or operations on the patented land; and

4. Additional terms and conditions that the authorized officer deems appropriate. Detailed information concerning the proposed land sale including the appraisal, planning and environmental documents, and a mineral report are available for review at the BLM Las Cruces District Office at the address above.

Public comments regarding the proposed sale may be submitted in writing to the attention of the BLM Las Cruces District Manager at the address above on or before October 15, 2013. Comments received in electronic form, such as email or facsimile, will not be considered. Any adverse comments regarding the proposed sale will be reviewed by the BLM State Director or other authorized official of the Department of the Interior, who may sustain, vacate, or modify this realty action in whole or in part. In the absence of timely filed objections, this realty action will become the final determination of the Department of the Interior.

Before including your address, phone number, email address, or other personal identifying information in your comment, you should be aware that your entire comment—including your personal identifying information—may be made publicly available at any time. While you can ask us in your comment to withhold your personal identifying information from public review, we cannot guarantee that we will be able to do so.

Authority: 43 CFR 2711.1-2.

Bill Childress,
District Manager, Las Cruces.

[FR Doc. 2013-21327 Filed 8-29-13; 8:45 am]

BILLING CODE 4310-FB-P